DEPARTMENT OF LABOR

Mine Safety and Health Administration

30 CFR Part 75

RIN 1219-AB75

Examinations of Work Areas in Underground Coal Mines for Violations of Mandatory Health or Safety Standards

AGENCY: Mine Safety and Health Administration, Labor.

ACTION: Notice of OMB approval of information collection requirements.

SUMMARY: The Paperwork Reduction Act (PRA) requires this notice to set forth the effectiveness of information collection requirements contained in the final rule on Examinations of Work Areas in Underground Coal Mines for Violations of Mandatory Health or Safety Standards.

DATES: On July 17, 2012, the Office of Management and Budget (OMB) approved under the PRA the Department of Labor's information collection request for additional requirements in 30 CFR 75.360, 75.363, and 75.364 for the final rule published in the Federal Register on April 6, 2012 (77 FR 20700). The current expiration date for OMB authorization for this information collection is July 31, 2015. The effective date of the final rule is August 6, 2012.

FOR FURTHER INFORMATION CONTACT: George F. Triebsch, Director, Office of Standards, Regulations, and Variances, MSHA, 1100 Wilson Boulevard, Room 2350, Arlington, Virginia 22209-3939, triebsch.george@dol.gov (email), 202-693-9440 (voice), or 202-693-9441 (facsimile).

SUPPLEMENTARY INFORMATION: The Office of Management and Budget (OMB) has approved under the PRA information collection requirements in MSHA's final rule on Examinations of Work Areas in Underground Coal Mines for Violations of Mandatory Health or Safety Standards published in the Federal Register on April 6, 2012 (77 FR 20700). The final rule revised existing requirements for preshift, supplemental, on-shift, and weekly examinations of underground coal mines to require operators to identify violations of health or safety standards related to ventilation, methane, roof control, combustible materials, rock dust, other safeguards, and guarding, as listed in the final rule. The effective date of the final rule is August 6, 2012.

Under the PRA, an agency may not conduct an information collection unless it has a currently valid OMB approval. However, OMB had not provided a PRA-required approval for the revised information collection requirements contained in 30 CFR 75.360, 75.363, and 75.364 at the time the final rule was published (44 U.S.C. 3507(a)(2)). Therefore, in accordance with the PRA, the effective date of the additional information collection requirements in the revised standards was delayed until the OMB approved them (44 U.S.C. 3506(c)(1)(B)(iii)(V)).

On July 17, 2012, the OMB approved the Department's information collection request in the final rule under Control Number 1219-0088 under the PRA. The current expiration date for OMB authorization for this information collection is July 31, 2015.

Dated: July 20, 2012.
George F. Triebsch,
Certifying Officer.

[FR Doc. 2012-18205 Filed 7-25-12; 8:45 am]

BILLING CODE 4510-43-P